DEPARTMENT OF LABOR

Employment and Training Administration

[TA-W-65,664]

Doranco, Inc.; Mansfield, MA; Notice of Termination of Investigation

Pursuant to Section 221 of the Trade Act of 1974, as amended, an investigation was initiated on March 23, 2009 in response to a worker petition filed by the Massachusetts Department of Labor and Workforce Development on behalf of workers at Doranco, Inc., Mansfield, Massachusetts.

The petitioner has requested that the petition be withdrawn. Consequently, the investigation has been terminated.

Signed at Washington, DC, this 7th day of April 2009.
Richard Church,
Certifying Officer, Division of Trade Adjustment Assistance.

[FR Doc. E9-10592 Filed 5-6-09; 8:45 am]

BILLING CODE 4510-FN-P